Title 3—

The President

Presidential Determination No. 2017-13 of September 29, 2017

Presidential Determination on Refugee Admissions for Fiscal Year 2018

Memorandum for the Secretary of State

By the authority vested in me as President by the Constitution and the laws of the United States, in accordance with section 207 of the Immigration and Nationality Act (the “Act”) (8 U.S.C. 1157), after appropriate consultations with the Congress, and consistent with the Report on Proposed Refugee Admissions for Fiscal Year 2018 submitted to the Congress on September 27, 2017, I hereby determine and authorize as follows:

The admission of up to 45,000 refugees to the United States during Fiscal Year (FY) 2018 is justified by humanitarian concerns or is otherwise in the national interest. This number includes persons admitted to the United States during FY 2018 with Federal refugee resettlement assistance under the Amerasian immigrant admissions program, as provided below.

The admissions shall be allocated among refugees of special humanitarian concern to the United States in accordance with the following regional allocations:

| Africa | 19,000 |
| East Asia | 5,000 |
| Europe and Central Asia | 2,000 |
| Latin America/Caribbean | 1,500 |
| Near East/South Asia | 17,500 |

The number of admissions allocated to the East Asia region shall include persons admitted to the United States during FY 2018 with Federal refugee resettlement assistance under section 584 of the Foreign Operations, Export Financing, and Related Programs Appropriations Act of 1988, as contained in section 101(e) of Public Law 100-202 (Amerasian immigrants and their family members).

Additionally, you are authorized, following notification of the appropriate committees of the Congress, to transfer unused admissions allocated to a region to one or more other regions, if greater admissions are needed for such region or regions.

Consistent with section 2(b)(2) of the Migration and Refugee Assistance Act of 1962 (22 U.S.C. 2601(b)), I hereby determine that assistance to or on behalf of persons applying for admission to the United States as part of the overseas refugee admissions program will contribute to the foreign policy interests of the United States, and I accordingly designate such persons for this purpose.

Consistent with section 101(a)(42) of the Act (8 U.S.C. 1101(a)(42)), and after appropriate consultation with the Congress, I also specify that, for FY 2018, the following persons may, if otherwise qualified, be considered refugees for the purpose of admission to the United States within their countries of nationality or habitual residence:

a. persons in Cuba

b. persons in Eurasia and the Baltics

c. persons in Iraq

d. persons in Honduras, Guatemala, and El Salvador

e. persons identified by a United States Embassy in any location, in exceptional circumstances.

You are authorized and directed to publish this determination in the Federal Register.

THE WHITE HOUSE,

Washington, September 29, 2017

[FR Doc. 2017-23140

Filed 10-20-17; 11:15 am]

Billing code 4710-10-P